DEPARTMENT OF HEALTH AND HUMAN SERVICES

Indian Health Service

Funding Opportunity for Increasing the Representation of American Indians and Alaska Natives in Sanitation and Engineering Management

Announcement Type: New.

Funding Announcement Number: HHS-2024-IHS-SEM-0001.

Assistance Listing (Catalog of Federal Domestic Assistance or CFDA) Number: 93.445.

Key Dates

Application Deadline Date: July 10, 2024.

Earliest Anticipated Start Date: August 1, 2024.

I. Funding Opportunity Description

Statutory Authority

The Indian Health Service (IHS) is accepting applications for a Single (Sole) Source Cooperative Agreement from the American Indian Science and Engineering Society (AISES) for Increasing the Representation of American Indian and Alaska Native (AI/AN) people in science, technology, engineering, and mathematic (STEM) fields. This program is authorized under the Snyder Act, 25 U.S.C. 13; and the Transfer Act, 42 U.S.C. 2001(a). The Assistance Listings section of SAM.gov (https://sam.gov/content/home) describes this program under 93.445.

Purpose

The purpose of this program is to increase representation of AI/AN people in STEM fields by increasing visibility and awareness of lesser-known STEM applied public health occupational and student opportunities as well as the benefits of these opportunities.

The full Notice of Funding Opportunity and all application materials can be found on Grants.gov at https://grants.gov/search-results-detail/354775.

II. Award Information

Funding Instrument—Cooperative Agreement

Estimated Funds Available

The total funding identified for fiscal year (FY) 2024 is approximately $30,000. We estimate $215,000 in FY 2025, $175,000 in FY 2026, $175,000 in FY 2027 and $150,000 for FY 2028.

Anticipated Number of Awards

The IHS anticipates issuing approximately one award under this program announcement.

Period of Performance

The period of performance is for 5 years.

III. Eligibility Information

1. Eligibility

This award is offered as a single source cooperative agreement to the AISES.

Note: Please refer to Section IV.2 (Application and Submission Information/Subsection 2, Content and Form of Application Submission) for additional proof of applicant status documents required, such as proof of nonprofit status, etc.

IV. Agency Contacts

1. Questions on the program matters may be directed to: Ms. Melissa de Vera, Assistant Director, Indian Health Service Headquarters, Division of Sanitation Facilities Construction, 5600 Fishers Lane, Mail Stop: 10N13, Rockville, MD 20897, Phone: (240) 462-4126, Email: Melissa.Devera@ihs.gov.

2. Questions on awards management and fiscal matters may be directed to: Indian Health Service, Division of Grants Management, 5600 Fishers Lane, Mail Stop: 09E70, Rockville, MD 20857, Email: DGM@ihs.gov.

3. For technical assistance with Grants.gov, please contact the Grants.gov help desk at (800) 518-4726, or by email at support@grants.gov.

4. For technical assistance with GrantSolutions, please contact the GrantSolutions help desk at (866) 577-0771, or by email at help@grantsolutions.gov.

V. Other Information

The Public Health Service strongly encourages all grant, cooperative agreement, and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Roselyn Tso,
Director, Indian Health Service.

[FR Doc. 2024-13949 Filed 6-25-24; 8:45 am]

BILLING CODE 4166-14-P